DEPARTMENT OF ENERGY

Secretary of Energy Advisory Board; Notice of Open Meeting

AGENCY: Department of Energy.

SUMMARY: This notice announces a meeting of the Secretary of Energy Advisory Board's National Ignition Facility Laser System Task Force. The Federal Advisory Committee Act (Pub. L. 92-463, 86 Stat. 770), requires that agencies publish these notices in the Federal Register to allow for public participation.

Name: Secretary of Energy Advisory Board—National Ignition Facility Laser System Task Force.

DATES: Wednesday, April 26, 2000, 8:30 AM-3 PM.

ADDRESSES: Lawrence Livermore National Laboratory (LLNL), Conference Room A, Building 123, 7000 East Avenue, Livermore, California 94551-0808. Note: For their convenience, members of the public who plan to attend this open meeting are requested to contact Ms. Kathleen Moody of the LLNL Protocol Office in advance of the meeting in order to facilitate access to the meeting site. Ms. Moody may be reached at (925) 423-5948 or via e-mail at moody2@llnl.gov.

FOR FURTHER INFORMATION CONTACT: Betsy Mullins, Executive Director, or Richard Burrow, Deputy Director, Secretary of Energy Advisory Board (AB-1), U.S. Department of Energy, 1000 Independence Avenue, SW, Washington, DC 20585, (202) 586-7092 or (202) 586-6279 (fax).

SUPPLEMENTARY INFORMATION: The purpose of the NIF Task Force is to provide independent external advice and recommendations to the Secretary of Energy Advisory Board on the options to complete the National Ignition Facility (NIF) Project; to recommend the best technical course of action; and to review and assess the risks of successfully completing the NIF Project. The NIF Task Force will focus on the engineering and management aspects of the proposed method for accomplishing the assembly and installation of the NIF laser system. The Task Force's review will cover the full scope of assembly and installation and the ability, within the proposed approach, to achieve the cleanliness requirements established for the operation of the laser. The review will also address: (1) The engineering viability of the proposed assembly and activation method; (2) the assembly and installation cleanliness protocols; (3) the management structure; and (4) the adequacy of the cost estimating methodology.

Tentative Agenda

The agenda for the April 26 meeting has not been finalized, however the topics to be addressed will include the following:

-Response to the Findings and Recommendations of the Interim Report of the National Ignition Facility Laser System Task Force, January 10, 2000—A discussion of the Department of Energy's response to the key findings and recommendations of the Task Force's Interim Report.

-NIF Rebaseline Plan—A discussion of the key milestones, basis and current status of the NIF Rebaseline Plan, February 2000 (NIF-0038376-0B.3)

-Criteria, Guidelines and Options Used as the Basis for the NIF Total Project Cost Estimate—A discussion of the key criteria, assumptions, and guidance used in the development of the NIF Project Cost Estimate, Schedule and options.

Tentative Agenda 8

8:30-9 a.m.—Opening Remarks, Introductions & Objectives—Dr. John McTague, Task Force Chairman

9-10 a.m.—Briefing & Discussion: NIF Project Response to the Interim Report Findings and Recommendations

—DOE

—University of California

—Lawrence Livermore National Laboratory

10-10 a.m.—Briefing & Discussion: NIF Rebaseline Plan, Implementation and Status

10:20-10:35 a.m.—Break

10:35-12:30 p.m.—Briefing & Discussion: NIF Cost Estimation and Scheduling Systems for the NIF Rebaseline

12:30-1:30 p.m.—Lunch

1:30-2:30 p.m.—Briefing & Discussion: NIF Progress Since the December Meeting

—Overview

—Optics

—Construction & Beampath Infrastructure

2:30-3 p.m.—Public Comment Period

3 p.m.—Adjourn

This tentative agenda is subject to change. The final agenda will be available at the meeting.

Public Participation

In keeping with procedures, members of the public are welcome to observe the business of the NIF Task Force and submit written comments or comment during the scheduled public comment periods. The Chairman of the Task Force is empowered to conduct the meeting in a fashion that will, in the Chairman's judgment, facilitate the orderly conduct of business. During its meeting in Livermore, California, the Task Force welcomes public comment. Members of the public will be heard in the order in which they sign up at the beginning of the meeting. The Task Force will make every effort to hear the views of all interested parties. You may submit written comments to Betsy Mullins, Executive Director, Secretary of Energy Advisory Board, AB-1, US Department of Energy, 1000 Independence Avenue, SW, Washington, DC 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW, Washington, DC, between 9:00 A.M. and 4:00 P.M., Monday through Friday except Federal holidays. Further information on the Secretary of Energy Advisory Board and its subcommittees may be found at the Board's web site, located at http: //www.hr.doe.gov/seab.

Issued at Washington, D.C., on April 11, 2000.
Rachel M. Samuel,
Deputy Advisory Committee Management Officer.

[FR Doc. 00-9366 Filed 4-13-00; 8: 45 am]

BILLING CODE 6450-01-P